FEDERAL MARITIME COMMISSION

Notice of Agreements Filed

The Commission hereby gives notice of the filing of the following agreements under the Shipping Act of 1984. Interested parties may submit comments on the agreements to the Secretary, Federal Maritime Commission, Washington, DC 20573, within twelve days of the date this notice appears in the Federal Register. Copies of the agreements are available through the Commission's Web site (www.fmc.gov) or by contacting the Office of Agreements at (202)-523-5793 or tradeanalysis@fmc.gov.

Agreement No.: 011905-001.

Title: K-Line/CSAV Car Carrier Agreement.

Parties: Compania Sud Americana de Vapores and Kawasaki Kisen Kaisha, Ltd.

Filing Party: John P. Meade, Esq.; General Counsel; K- Line America, Inc.; 6199 Bethlehem Road; Preston, MD 21655.

Synopsis: The amendment updates the address for CSAV and adds Mexico to the geographic scope.

Agreement No.: 012208-001.

Title: Hoegh/Grimaldi Space Charter Agreement.

Parties: Hoegh Autoliners AS and Grimaldi Deep Sea S.p.A.

Filing Party: Wayne R. Rohde, Esq.; Cozen O'Connor; 1627 I Street NW., Suite 1100, Washington, DC 20006.

Synopsis: The Amendment changes the name of Industria Armamento Meridionale S.P.A. to Grimaldi Deep Sea S.p.A., adds the trade from Baltimore to Antwerp to the geographic scope of the Agreement, and restates the Agreement accordingly.

By Order of the Federal Maritime Commission.
Dated: February 26, 2015.
Karen V. Gregory,
Secretary.

[FR Doc. 2015-04428 Filed 3-3-15; 8:45 am]

BILLING CODE 6730-01-P